DEPARTMENT OF JUSTICE

Notice of Lodging of Proposed Consent Decree Under the Comprehensive Environmental Response, Compensation and Recovery Act

On March 23, 2018, the Department of Justice lodged a proposed Consent Decree with the United States District Court for the Eastern District of Pennsylvania in the lawsuit entitled United States v. Renaissance Land Associates II, L.P., et al., Civil Action No. 18-01205-JD.

The United States filed this lawsuit under the Comprehensive Environmental Response, Compensation and Liability Act (CERCLA). The United States' complaint names two related entities, Renaissance Land Associates II, L.P., and Renaissance Land Associates III, L.P., as defendants. The complaint requests injunctive relief in the form of performing certain remedial actions and recovery of response costs incurred by the United States in connection with Operable Units 1 and 2 of the Crater Resources, Inc. Superfund Site (“Site”) located in Upper Merion Township, Montgomery County, Pennsylvania. Under the Consent Decree, the defendants agree to pay past response costs of $138,800 and pay the United States' interim and future costs related to negotiating the Consent Decree and overseeing the remedial action. The defendants also agree to implement the response action prescribed by EPA for Operable Units 1 and 2, namely, capping the remaining contamination to health-protective standards for residents. In return, the United States agrees not to sue the defendants under sections 106 and 107 of CERCLA.

If the defendants, which are commercial developers, convey their Site property in the future, the Consent Decree binds the defendants' successors to various operations and maintenance and institutional controls obligations. The United States' covenant not to sue the defendants extends to their successors provided that the successors execute a form requiring them to comply with various Consent Decree conditions. The covenant not to sue extends only to contamination that exists at the Site as of the effective date of the Consent Decree.

The publication of this notice opens a period for public comment on the Consent Decree. Comments should be addressed to the Assistant Attorney General, Environment and Natural Resources Division, and should refer to United States Renaissance Land Associates II, L.P., et al., D.J. Ref. No. 90-11-2-1283/4. All comments must be submitted no later than thirty (30) days after publication of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Consent Decree may be examined and downloaded at this Justice Department website: https://www.justice.gov/enrd/consent-decrees. Alternatively, we will provide a paper copy of the Consent Decree upon written request and payment of reproduction costs. Please mail your request and payment to: Consent Decree Library, U.S. DOJ-ENRD, P.O. Box 7611, Washington, DC 20044-7611.

Please enclose a check or money order for $194.75 (25 cents per page reproduction cost) payable to the United States Treasury. For a paper copy without the exhibits, the cost is $25.00.

Robert Brook,
Assistant Section Chief, Environmental Enforcement Section, Environment and Natural Resources Division.

[FR Doc. 2018-06338 Filed 3-28-18; 8:45 am]

BILLING CODE 4410-15-P